Proclamation 10573 of May 5, 2023

Public Service Recognition Week, 2023

By the President of the United States of America

A Proclamation

Every day, more than 20 million dedicated public servants in small towns and big cities across our Nation go to work to make sure that America works for all of us. From teaching our children and delivering the mail to controlling air traffic in our skies, overseeing our elections, fighting fires, keeping our streets safe, and defending our country in uniform, these remarkable Americans are the lifeblood of our democracy. This week, we honor them and celebrate all they give to this country.

I have had the great privilege of working with public servants who lift up others and so seldom seek recognition or personal acclaim in return. I have also witnessed the sacrifices of families who serve alongside them, like those who uproot their lives every few years when a family member's job calls on them to find a new home, and law enforcement families who wait bravely for loved ones to come back from their shifts. Public servants embody the timeless creed of this Nation found in the words of President John F. Kennedy: “Ask not what your country can do for you—ask what you can do for your country.”

At a time when public servants are facing threats and hostility simply for doing their jobs, their continued willingness to serve is even more meaningful and important. We have an obligation to support them and to recognize and value their commitment and sacrifice. Our Nation's future depends on ensuring our public servants have good jobs with competitive pay and benefits, along with the resources they need to accomplish their work. It also depends on the next generation of smart, dedicated people answering the call of public service and joining their ranks, helping deliver the promise of America to more of our citizens. That is why my American Rescue Plan provided $350 billion to State, Tribal, and local governments to keep public servants on the payroll and make vital new hires—including first responders, teachers, and public works employees. My Safer America Plan calls on the Congress to provide our law enforcement officers with more mental health and wellness resources and to recruit and hire 100,000 more police officers for safe, effective, and accountable community policing, consistent with the standards of my policing Executive Order.

Meanwhile, my Administration is taking steps to protect, empower, and rebuild the career Federal workforce. I issued Executive Orders increasing the minimum wage for Federal employees to $15 per hour, making Government jobs more competitive and giving hardworking Americans more breathing room. To ensure public servants reflect the diversity of the communities they serve and to draw on the full range of talent we have across our Nation, I took executive action to protect Federal employees against discrimination on the basis of gender identity or sexual orientation, and launched a Government-wide initiative to advance diversity, equity, inclusion, and accessibility in the Federal workforce. And I established a White House Task Force on Worker Organizing and Empowerment, led by Vice President Harris, to strengthen the right to unionize among Federal Government workers. To ensure that employment in the Federal workforce continues to be based on merit, skill, and experience—and does not become politicized—I have also called for legislation to protect the integrity of the civil service.

Public servants so often come out of school with debt that can take more than a decade to pay off, so my Administration has also worked to fix the Public Service Loan Forgiveness program. To date, we have helped over 450,000 public servants—including teachers, first responders, nurses, and members of the military—get nearly $31 billion in loan forgiveness.

These actions are all part of my plan to build a country that rewards work and not just wealth, especially for those who dedicate their lives to improving the lives of others. These are investments in America's future. When we support our public servants with the recognition and resources they deserve, our loved ones are safer in their communities, our families are more likely to get the high-quality services they need in a timely manner, our economy is stronger, and we put ourselves on a path to win the race for the future.

NOW, THEREFORE, I, JOSEPH R. BIDEN JR., President of the United States of America, by virtue of the authority vested in me by the Constitution and the laws of the United States, do hereby proclaim May 7 through May 13, 2023, as Public Service Recognition Week. I call upon all Americans to celebrate public servants and their contributions this week and throughout the year.

IN WITNESS WHEREOF, I have hereunto set my hand this fifth day of May, in the year of our Lord two thousand twenty-three, and of the Independence of the United States of America the two hundred and forty-seventh.

[FR Doc. 2023-10087

Filed 5-9-23; 8:45 am]

Billing code 3395-F3-P